SOCIAL SECURITY ADMINISTRATION

Notice of Solicitation of Public Comments on Prerequisites for Participation in a Demonstration Project Extending Fee Withholding Procedures to Non-Attorney Representatives

AGENCY: Social Security Administration (SSA).

ACTION: Notice.

SUMMARY: Section 303 of the Social Security Protection Act of 2004 (SSPA) requires the Commissioner of Social Security (the Commissioner) to develop and implement a 5-year nationwide demonstration project that will extend to certain non-attorney representatives of claimants under titles II and XVI of the Social Security Act (the Act) the option to have approved representatives’ fees withheld and paid directly from a beneficiary's past-due benefits. Currently, this option is available only to representatives who are attorneys. Non-attorney representatives who wish to participate in the demonstration project must meet the prerequisites specified in section 303 of the SSPA, and any additional prerequisites that the Commissioner may prescribe. One of the statutory prerequisites is that the individual must pass an examination, written and administered by the Commissioner, which tests knowledge of the relevant provisions of the Act and the most recent developments in agency and court decisions affecting titles II and XVI of the Act. We are seeking public comments regarding the general topics that should be included in the examination. In addition, we invite your comments on the particular issues described below related to the other statutory prerequisites. Finally, we invite comments on whether individuals who wish to participate in the demonstration project should be required to meet additional prerequisites not specified in section 303 and, if so, what those additional prerequisites might be.

DATES: To be sure that we consider your comments, we must receive them by September 15, 2004.

ADDRESSES: Comments should be sent to William Storey, Acting Director, Office of Policy, Planning and Evaluation, by: e-mail to William.Storey@ssa.gov; telefax to (703) 605-8261; or mail to the Office of Hearings and Appeals, Suite 1608, 5107 Leesburg Pike, Falls Church, VA 22041-3255.

FOR FURTHER INFORMATION CONTACT: William Storey, Suite 1608, 5107 Leesburg Pike, Falls Church, VA 22041-3255, (703) 605-8260.

SUPPLEMENTARY INFORMATION: We are developing an examination that will be administered to non-attorney representatives who wish to participate in the direct fee payment demonstration project authorized by section 303 of the SSPA, Public Law 108-203, enacted March 2, 2004. Section 303 specifies that the examination is to test knowledge of the relevant provisions of the Act and the most recent developments in agency and court decisions affecting titles II and XVI of the Act.

We have compiled a list of general topics upon which the examination questions might focus. That list is included as an Appendix. We request comments on whether the specific topics listed should be tested in the examination, and on whether there are additional topics that we should include.

To help us determine if a topic should be tested in the examination, we have established a rating system for assigning a rank to each topic. We ask that commenters use the rating system when commenting on both the potential topics listed in the Appendix and any additional topics that may be suggested. The rating system is based on a scale from 1 to 5, where 5 indicates that the topic is critical and must be considered in developing the qualifying examination. The criteria for the rankings are as follows:

5 = Critical (cannot do the job without knowing this)

4 = Very Important (difficulty doing the job well without knowing this)

3 = Moderately Important (helpful in doing the job well)

2 = Slightly Important (occasionally helpful in doing the job well)

1 = Not Important (not needed to do the job)

X = Cannot Rank (unable to determine the relative importance)

In addition to passing the examination, non-attorneys who wish to participate in the demonstration project are required by section 303 to meet the following prerequisites:

• The representative has been awarded a bachelor's degree from an accredited institution of higher education, or has been determined by the Commissioner to have equivalent qualifications derived from training and work experience;

• The representative has secured professional liability insurance, or equivalent insurance, which the Commissioner has determined to be adequate to protect claimants in the event of malpractice by the representative;

• The representative has undergone a criminal background check to ensure the representative's fitness to practice before the Commissioner; and

• The representative demonstrates ongoing completion of qualified courses of continuing education, including education regarding ethics and professional conduct, which are designed to enhance professional knowledge in matters related to entitlement to, or eligibility for, benefits based on disability under titles II and XVI of the Act.

We invite comments on any issues related to:

• The quality and extent of training or work experience that should be considered equivalent to a bachelor's degree;

• The amount of liability insurance that should be considered adequate to protect claimants; and

• The extent and types of continuing education courses that should be required.

We will consider the comments we receive as we develop the demonstration project under section 303 of the SSPA.

(Catalog of Federal Domestic Assistance Program Nos. 96.001, Social Security-Disability Insurance; 96.002, Social Security-Retirement Insurance; 96.004, Social Security-Survivors Insurance; and 96.006, Supplemental Security Income)
Dated: August 11, 2004.
Fritz Streckewald,
Assistant Deputy Commissioner for Program Policy for Disability and Income Security Programs.

Appendix

Ethics and Professionalism

Conflict of interest

Good character and reputation

Grounds for disqualification/suspension

Privacy Act and disclosure policy

Ethical conduct

Hearings and Appeals Process

Appeal deadlines

Good cause for late filing

Reconsideration

Request for hearing by an Administrative Law Judge

Request for Appeals Council Review

Representation of claimants

Fee agreement process

Fee petition process

Fee authorization

Witness cross-examination

Interrogatories

Vocational Expert testimony

Medical Expert testimony

Reopening and revision policy

Substantial evidence standard

Role in obtaining evidence

Effect of multiple applications on appeals process

Medical and Vocational Issues

Definition of disability

Sequential evaluation process (adults and children)

Impairment severity

Medical listings

Listing equivalency

Functional equivalence

Assessment of residual functional capacity

Past relevant work

Medical evidence

Medical source opinions

Failure to cooperate

Medical improvement review standard

Symptoms and credibility

Evaluation of pain

Mental impairments

Consultative examination

Vocational factors

Appendix 2 “grid” rules

Exertional and nonexertional impairments

Transferable skills

Disability Benefit Issues

Title II insured status

Title II entitlement factors

Waiting period

Substantial gainful activity

Trial work period

Extended period of eligibility

Unsuccessful work attempt

Special employment considerations

Impairment related work expenses

Date of onset

Disabled widow(er)'s benefits—entitlement factors

Childhood disability benefits—entitlement factors

End stage renal disease—entitlement factors

Title XVI disabled individual eligibility

Title XVI disabled child eligibility

Title XVI blind individual eligibility

Continuing disability reviews

Ticket to work

Work incentives

Expedited reinstatement of benefits

Plan for achieving self-support

Terminal illness

Amyotrophic lateral sclerosis (Lou Gehrig's disease)

Drug addiction and alcoholism condition

Presumptive disability

Workers” compensation

Public disability benefits

Non-Disability Benefit Issues

Title II insured status

Title II retirement benefits—entitlement factors

Title II auxiliary benefits (e.g., child, spouse)—entitlement factors

Title II survivor benefits (e.g., child, widow, widower)—entitlement factors

Title II dual entitlement

Non-payment (suspension) events

Termination events

Primary insurance amount computations

Primary insurance amount reduction factors

Month of entitlement

Overpayment waiver

Totalization of benefits

Earnings record discrepancies

Administrative finality

Res judicata

Collateral estoppel

Title XVI eligibility factors

Title XVI living arrangements

Title XVI in-kind support and maintenance

Title XVI resources

Title XVI earned and unearned income

Title XVI redeterminations

Title XVI deeming

Title XVI offset provisions

Goldberg-Kelly provisions

State supplementation

Interim assistance reimbursement

Citizenship issues

Cross program recovery

Medicaid eligibility factors

Medicare entitlement factors

Special veterans benefits

Railroad benefits

Military service

Windfall elimination provision

Government pension offset

Delayed retirement credits

Protective filing

[FR Doc. 04-18743 Filed 8-13-04; 8:45 am]

BILLING CODE 4191-02-P